DEPARTMENT OF ENERGY

Federal Energy Regulatory Commission

Notice of Effectiveness of Exempt Wholesale Generator Status

| Docket Nos.
Pisgah Ridge Solar LLC | EG22-135-000
Maple Flats Solar Energy Center LLC | EG22-136-000
Kossuth County Wind, LLC | EG22-137-000
IP Lumina, LLC | EG22-138-000
IP Lumina II, LLC | EG22-139-000
Deerfield Wind Energy 2, LLC | EG22-140-000
IP Oberon, LLC | EG22-141-000
IP Oberon II, LLC | EG22-142-000
Blue Harvest Solar Park LLC | EG22-143-000
Timber Road Solar Park LLC | EG22-144-000
Buffalo Ridge Wind, LLC | EG22-145-000
Invenergy Nelson Expansion LLC | EG22-146-000
Invenergy Nelson LLC | EG22-147-000
West Texas Solar Project II LLC | EG22-148-000
Big Cyprus Solar, LLC | EG22-149-000
Bakeoven Solar, LLC | EG22-150-000
Daybreak Solar, LLC | EG22-151-000
Northwest Ohio IA, LLC | EG22-152-000
Northwest Ohio Solar, LLC | EG22-153-000
EDPR CA Solar Park LLC | EG22-154-000
EDPR CA Solar Park II LLC | EG22-155-000
EDPR Scarlet I LLC | EG22-156-000
Clearwater Wind I, LLC | EG22-157-000

Take notice that during the month of August 2022, the status of the above-captioned entities as Exempt Wholesale Generators Companies became effective by operation of the Commission's regulations. 18 CFR 366.7(a) (2021).

Dated: September 19, 2022.
Debbie-Anne A. Reese,
Deputy Secretary.

[FR Doc. 2022-20651 Filed 9-22-22; 8:45 am]

BILLING CODE 6717-01-P